DEPARTMENT OF THE INTERIOR

Bureau of Land Management

[LLCOS09000 L16100000.DR0000 17X]

Notice of Availability of the Record of Decision for the Dominguez-Escalante National Conservation Area Resource Management Plan and Final Environmental Impact Statement, Colorado

AGENCY: Bureau of Land Management, Interior.

ACTION: Notice of availability.

SUMMARY: The Bureau of Land Management (BLM) announces the availability of the Record of Decision (ROD) for the Approved Resource Management Plan (RMP) and Final Environmental Impact Statement for the Dominguez-Escalante National Conservation Area (NCA) located in Mesa, Delta and Montrose counties, Colorado. The Colorado State Director signed the ROD on January 9, 2017, which constitutes the final decision of the BLM and makes the Approved RMP effective immediately.

ADDRESSES: Copies of the ROD/Approved RMP are available upon request from the National Conservation Area Manager, Dominguez-Escalante National Conservation Area, Bureau of Land Management, 2815 H Road, Grand Junction, CO 81506; or online at http://1.usa.gov/1qKkMVi. Copies of the ROD/Approved RMP are also available for public inspection at the Grand Junction Field Office (see address above); Uncompahgre Field Office, 2465 South Townsend Avenue, Montrose, CO 81401; Mesa County Public Library Central Branch; Delta County Library Delta Branch; and Montrose Regional Library.

FOR FURTHER INFORMATION CONTACT: Collin Ewing, National Conservation Area Manager; telephone 970-244-3049; see Grand Junction address above; email cewing@blm.gov. Persons who use a telecommunications device for the deaf (TDD) may call the Federal Relay Service at 1-800-877-8339 to contact the above individual during normal business hours. The Service is available 24 hours a day, 7 days a week, to leave a message or question with the above individual. You will receive a reply during normal business hours.

SUPPLEMENTARY INFORMATION: The Dominguez-Escalante NCA has worked cooperatively with the public, interest groups, stakeholders, cooperating agencies, tribes, the Dominguez-Escalante NCA Resource Advisory Council, the Environmental Protection Agency, U.S. Forest Service, U.S. Fish and Wildlife Service, and neighboring BLM offices to develop the Approved RMP. The Approved RMP seeks to provide for the long-term conservation and protection of the “unique and important values” of the Dominguez-Escalante NCA identified in the area's enabling legislation: The Omnibus Public Land Management Act of 2009, Public Law 111-11 (Omnibus Act). These values include the “geological, cultural, archaeological, paleontological, natural, scientific, recreational, wilderness, wildlife, riparian, historical, educational, and scenic resources of the public lands, as well as the water resources of area streams, based on seasonally available flows, that are necessary to support aquatic, riparian, and terrestrial species and communities.” The Omnibus Act specified that these values be conserved and protected “for the benefit and enjoyment of present and future generations.” Furthermore, in recognition of the historic and current traditional use of the NCA for livestock grazing, the Omnibus Act specifically stated that the BLM “shall issue and administer any grazing leases or permits in the Conservation Area in accordance with the laws (including regulations) applicable to the issuance and administration of such leases and permits on other land under the jurisdiction of the Bureau of Land Management.” This RMP continues livestock grazing to meet land health standards in consideration of the other purposes of the NCA.

Management decisions outlined in the Approved RMP apply only to BLM-managed lands in the Dominguez-Escalante NCA (approximately 210,172 acres). The Approved RMP will replace management direction contained in the 1987 Grand Junction Resource Area RMP and 1989 Uncompahgre Basin RMP. The Approved RMP establishes goals, objectives, management actions and allowable uses for resources and land uses including, but not limited to: Air, soil, water, Wild and Scenic Rivers, upland and riparian vegetation, fish and wildlife, cultural and paleontological resources, visual resources, National Historic Trails, recreation, lands with wilderness characteristics, livestock grazing, forestry and realty.

The BLM initiated scoping for the RMP revision in 2010 and collected information and public input via public meetings in order to develop the Draft RMP/Environmental Impact Statement (EIS) released in May 2013. The BLM developed the Proposed Plan Alternative based upon the Draft Preferred Alternative and public comments on the Draft RMP/EIS.

The BLM published the Proposed RMP/Final EIS on July 1, 2016, and made it available for a 30-day public protest period. During the protest period for the Proposed RMP/Final EIS, the BLM received seven protests on a variety of issues. All protests were dismissed; however, the BLM made minor editorial modifications to the Approved RMP to provide further clarification of some of the decisions.

The BLM regulations also require a 60-day Governor's Consistency Review period for the Proposed RMP/Final EIS to ensure consistency with State government plans or policies. The Governor did not identify any inconsistencies with State government plans or policies.

The Approved RMP includes decisions that implement components of the land use plan. These implementation decisions are displayed and numbered in the Approved RMP. Implementation decisions are generally appealable to the Interior Board of Land Appeals under 43 CFR 4.410.

For example, the decisions identifying designated routes of travel are implementation decisions and are appealable under 43 CFR part 4. The route decisions are displayed as an attachment to Appendix N of the Approved RMP. Any party adversely affected by the proposed route identifications may appeal within 30 days of publication of this Notice of Availability pursuant to 43 CFR, part 4, subpart E. The appeal should state the specific route(s), as identified in Appendix N of the Approved RMP, on which the decision is being appealed. The appeal must be filed with the NCA Manager at the above listed address. Please consult the appropriate regulations (43 CFR, part 4, subpart E) for further appeal requirements.

Authority: 40 CFR 1506.6.

Ruth Welch,
BLM Colorado State Director.

[FR Doc. 2017-00772 Filed 1-12-17; 8:45 am]

BILLING CODE 4130-JB-P